DEPARTMENT OF ENERGY

Federal Energy Regulatory Commission

[Docket No. RP97-287-043]

El Paso Natural Gas Company; Notice of Compliance Filing

February 1, 2000.

Take notice that on January 27, 2000, El Paso Natural Gas Company (El Paso) tendered for filing a revised, partially executed Transportation Service Agreement (TSA) between El Paso and Enron North America Corp. dated December 17, 1999 to be effective February 1, 2000.

El Paso states that the above TSA providing for Block II capacity rights is being filed to comply with the Commission's order issued January 19, 2000 in this proceeding.

Any person desiring to protest this filing should file a protest with the Federal Energy Regulatory Commission, 888 First Street, NE, Washington, DC 20426, in accordance with Section 385.211 of the Commission's Rules and Regulations. All such protests must be filed on or before February 8, 2000. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

David P. Boergers,
Secretary.

[FR Doc. 00-2658 Filed 2-4-00; 8:45 am]

BILLING CODE 6717-01-M